ENVIRONMENTAL PROTECTION AGENCY

40 CFR Part 52

[MD078-3078a; FRL-7049-3]

Approval and Promulgation of Air Quality Implementation Plans; Maryland; Control of VOC Emissions From Marine Vessels Coating Operations

AGENCY: Environmental Protection Agency (EPA).

ACTION: Direct final rule.

SUMMARY: EPA is taking direct final action to approve a revision to the Maryland State Implementation Plan (SIP). This revision establishes reasonable available control technology (RACT) to reduce volatile organic compound (VOC) emissions from marine vessel coating operations. The intent of this action is to approve Maryland's RACT regulation to control VOC emissions from marine vessel coating operations. EPA is fully approving these revisions in accordance with the requirements of the Clean Air Act (CAA).

DATES: This rule is effective on October 22, 2001 without further notice, unless EPA receives adverse written comment by October 5, 2001. If EPA receives such comments, it will publish a timely withdrawal of the direct final rule in the Federal Register and inform the public that the rule will not take effect.

ADDRESSES: Written comments should be mailed to Makeba Morris, Permits and Technical Assessment Branch, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and Maryland Department of the Environment, 2500 Broening Highway, Baltimore, Maryland, 21224.

FOR FURTHER INFORMATION CONTACT: Makeba Morris at (215) 814-2187, or by e-mail at morris.makeba@epa.gov. Please note that while questions may be posed via telephone and e-mail, formal comments must be submitted, in writing, as indicated in the ADDRESSES section of this document.

SUPPLEMENTARY INFORMATION:

I. Background

On August 20, 2001, the State of Maryland submitted a formal revision to its State Implementation Plan (SIP). This SIP revision, submitted by the Maryland Department of the Environment (MDE), consists of the Code of Maryland Regulations (COMAR) 26.11.19.27, Control of Volatile Organic Compound (VOC) Emissions From Marine Vessel Coating Operations.

II. Summary of the SIP Revision

A. Applicability—COMAR 26.11.19.27 applies to sources, where marine vessel coating operations are performed, with facility-wide potential VOC emissions of 25 tons per year or more or actual emissions of 20 pounds per day.

B. Definitions—COMAR 26.11.19.27 defines the following terms: Air flask coating, Antenna coating, Antifoulant coating, Chemical agent resistant coating, Heat resistant coating, High gloss coating, High-temperature coating, Inorganic zinc (high build) coating, Marine vessel coating operation, Mist/tack coating, Navigational aids coating, Nonskid coating, Nuclear coating, Organic zinc coating, Pretreatment wash primer coating, Rubber camouflage coating, Sealant coating, Ship, Special marking coating, Speciality interior coating, Thermoplastic coating, Undersea weapons systems coating, Weld-through (shop) preconstruction primer.

C. Coating Requirements—COMAR 26.11.19.27 establishes limits for the following marine vessel coatings:

Coating | Maximum VOC Content, Pounds per gallon, as applied (Grams per liter)
Air Flask | 2.83 (340)
Antenna | 4.42 (530)
Antifoulant | 3.42 (400)
CARC | 2.83 (340)
Heat Resistant | 3.50 (420)
High Gloss | 3.50 (420)
High Temperature | 4.17 (500)
Inorganic zinc high build primer | 2.83 (340)
Mist/Tack | 5.08 (610)
Navigational aids | 4.58 (550)
Nonskid | 2.83 (340)
Nuclear | 3.50 (420)
Organic zinc | 3.00 (360)
Pre-treatment wash primer | 6.50 (780)
Rubber camouflage | 2.83 (340)
Sealant coat for thermal spray aluminum | 5.08 (610)
Special marking | 4.08 (490)
Specialty interior | 2.83 (340)
Thermoplastic coating | 4.58 (550)
Undersea weapons systems | 2.83 (340)
Weld-through (shop) primer | 5.42 (650)

In addition to the limit on the VOC content of the coatings listed above, the following requirements apply:

(1) A coating which satisfies the definition of more than one category of coating is subject to the maximum VOC content which applies to the applicable coating category,

(2) Any other coatings not specifically listed in the regulation may not exceed a VOC content of 2.83 pounds per gallon (340 grams per liter), as applied, and

(3) The limits established by the new regulation may be exceeded by 20 percent, but only during the time period between November 1 of a given year through March 31 of the following year.

D. Clean-Up Requirements—This regulation also requires reasonable precautions to minimize the release of VOCs into the atmosphere. These work-practice requirements include:

(1) Storing all waste materials containing VOC, including cloth and paper, in closed containers, (2) Maintaining lids on any VOC-bearing materials when not in use, and

(3) Using enclosed containers or VOC recycling equipment to clean spray gun equipment.

E. Compliance—Compliance must be demonstrated in accordance with COMAR 26.11.19.02.

F. Record keeping—Records of total volume and VOC content of each coating, coating solvent, and cleanup solvent used that contains VOCs must be maintained on a monthly basis and retained for at least three years.

III. EPA's Evaluation

This SIP revision imposing RACT to control VOC emissions from marine vessel coating operations is consistent with federal guidelines and will result in significant VOC emission reductions. EPA has determined that COMAR 26.11.19.27 is approvable as a SIP revision.

Final Action: EPA is approving the addition of COMAR 26.11.19.27, Control of Volatile Organic Compound (VOC) Emissions from Marine Vessel Coating Operations as a revision to the Maryland SIP as submitted by MDE on August 20, 2001. EPA is publishing this rule without prior proposal because the Agency views this as a noncontroversial amendment and anticipate no adverse comment. However, in the “Proposed Rules” section of today's Federal Register, EPA is publishing a separate document that will serve as the proposal to approve the SIP revision if adverse comments are filed. This rule will be effective on October 22, 2001 without further notice unless EPA receives adverse comment by October 5, 2001. If EPA receives adverse comment, EPA will publish a timely withdrawal in the Federal Register informing the public that the rule will not take effect. EPA will address all public comments in a subsequent final rule based on the proposed rule. EPA will not institute a second comment period on this action. Any parties interested in commenting must do so at this time.

IV. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law.

Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by November 5, 2001. Filing a petition for reconsideration by the Administrator of this final rule does not affect the finality of this rule for the purposes of judicial review nor does it extend the time within which a petition for judicial review may be filed, and shall not postpone the effectiveness of such rule or action. This action, approving Maryland's regulation imposing RACT to control VOC emissions from marine vessel coating operations, may not be challenged later in proceedings to enforce its requirements. (See section 307(b)(2).)

List of Subjects in 40 CFR Part 52

Environmental protection, Air pollution control, Incorporation by reference, Intergovernmental relations, Ozone, Reporting and recordkeeping requirements.

Dated: August 28, 2001.
Thomas C. Voltaggio,
Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(166) to read as follows:

§ 52.1070 Identification of plan.

* * * * *

(c) * * *

(166) Revisions to the Maryland State Implementation Plan submitted on August 20, 2001 by the Maryland Department of the Environment consisting of Reasonably Available Control Technology (RACT) requirements to reduce volatile organic compound (VOC) emissions from marine vessel coating operations.

(i) Incorporation by reference.

(A) A letter dated August 20, 2001 from the Maryland Department of the Environment transmitting an addition to Maryland's State Implementation Plan, pertaining to volatile organic compound (VOC) regulations in Maryland's air quality regulations, COMAR 26.11.19.27.

(B) Addition of new COMAR 26.11.19.27—Control of Volatile Organic Compounds from Marine Vessel Coating Operations, effective on October 20, 1997.

(ii) Additional Materials—Remainder of the August 20, 2001 submittal pertaining to COMAR 26.11.19.27—Control of VOC Emissions from Marine Vessel Coating Operations.

[FR Doc. 01-22267 Filed 9-4-01; 8:45 am]

BILLING CODE 6560-50-P